DEPARTMENT OF LABOR

Employment and Training Administration

[TA-W-72,555; TA-W-72,555A]

Trueheat, Inc., a Subsidiary of Global Heating Solutions, Inc., Currently Known as Truheat, a Division of Three Heat LLC, Allegan, MI; Electro-Heat, Inc., a Subsidiary of Global Heating Solutions, Inc., Currently Known as Truheat, a Division of Three Heat LLC, Allegan, MI; Amended Certification Regarding Eligibility To Apply for Worker Adjustment Assistance

In accordance with Section 223 of the Trade Act of 1974, as amended (“Act”), 19 U.S.C. 2273, the Department of Labor issued a Certification of Eligibility to Apply for Worker Adjustment Assistance on December 8, 2009, applicable to workers of TrueHeat, Inc., a subsidiary of Global Heating Solutions, Inc., Allegan, Michigan and Electro-Heat, Inc., a subsidiary of Global Heating Solutions, Inc., Allegan, Michigan. The notice will be published soon in the Federal Register.

At the request of the State agency, the Department reviewed the certification for workers of the subject firm. The workers are engaged in activities related to the production of heating elements.

Information shows that as of April 19, 2010, TrueHeat, Inc., and a sister firm, Electro-Heat, Inc. are currently known as TruHeat, a Division of Three Heat LLC. Some workers separated from employment at the subject firms have their wages reported under a separate unemployment insurance (UI) tax accounts for TruHeat, a Division of Three Heat LLC.

Accordingly, the Department is amending this certification to properly reflect this matter.

The intent of the Department's certification is to include all workers of the subject firm who were adversely affected by increased imports of heating elements.

The amended notice applicable to TA-W-72,555 and TA-W-72,555A are hereby issued as follows:

All workers of TrueHeat, Inc., a subsidiary of Global Heating Solutions, Inc., currently known as TruHeat, a Division of Three Heat LLC, Allegan, Michigan (TA-W-72,555) and Electro-Heat, Inc., a subsidiary of Global Heating Solutions, Inc., currently known as Tru-Heat, a Division of Three Heat LLC, Allegan, Michigan (TA-W-72,555A), who became totally or partially separated from employment on or after May 4, 2009 through December 8, 2011, and all workers in the group threatened with total or partial separation from employment on the date of certification through two years from the date of certification, are eligible to apply for adjustment assistance under Chapter 2 of Title II of the Trade Act of 1974, as amended.

Signed at Washington, DC, this 3rd day of June 2010.
Richard Church,
Certifying Officer, Division of Trade Adjustment Assistance.

[FR Doc. 2010-14462 Filed 6-15-10; 8:45 am]

BILLING CODE 4510-FN-P